INTERNATIONAL TRADE COMMISSION

[Investigation No. 731-TA-1150 (Final)]

Circular Welded Carbon Quality Steel Line Pipe From Korea

AGENCY: United States International Trade Commission.

ACTION: Termination of investigation.

SUMMARY: On November 25, 2008, the Commission received a letter from the Department of Commerce stating that, having received a letter from petitioners in the subject investigation (Maverick Tube Corp., United States Steel Corp., Tex-Tube Corp., and the United Steel, Paper and Forestry, Rubber, Manufacturing, Energy, Allied Industrial and Service Workers International Union, AFL-CIO-CLC) withdrawing its petition, Commerce was terminating its antidumping investigation on circular welded carbon quality steel line pipe from Korea. Accordingly, pursuant to section 207.40(a) of the Commission's Rules of Practice and Procedure (19 CFR 207.40(a)), the subject investigation is terminated.

DATES: Effective Date: November 25, 2008.

FOR FURTHER INFORMATION CONTACT: Mary Messer (202-205-3193), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

Authority: This investigation is being terminated under authority of title VII of the Tariff Act of 1930; this notice is published pursuant to section 207.40 of the Commission's rules (19 CFR 207.40).

By order of the Commission.
Issued: December 8, 2008.
Marilyn R. Abbott,
Secretary to the Commission.

[FR Doc. E8-29452 Filed 12-11-08; 8:45 am]

BILLING CODE 7020-02-P